DEPARTMENT OF AGRICULTURE

Submission for OMB Review; Comment Request, Correction

May 27, 2008.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Food Stamp Program Application.

OMB Control Number: 0584-0008.

Summary of Collection: Section 9(a) of the Food Stamp Act of 1977 as amended, (7 U.S.C. 2011 et seq.) requires retail food stores and meal services (firms) to submit applications to the Food and Nutrition Service (FNS) for approval prior to participating in the Food Stamp Program. FNS field offices review a firm's applications to determine if the applicant individual and firm meet the eligibility requirements and make a determination to deny or accept the firm's application to redeem Food Stamp Program benefits. FNS will collect information using forms FNS-252, Food Stamp Program Application for Store, FNS-252-E, Online Food Stamp Program Application for Store, FNS 252-2, Meal Service Application, and FNS-252-C, Corporate Supplemental Application.

Need and Use of the Information: FNS will collect information to determine the eligibility of retail food stores, wholesale food concerns, and food service organizations applying for authorization to accept and redeem food stamp benefits and to monitor these firms for continued eligibility, and to sanction stores for noncompliance with the Act, and for Program management. Disclosure of information other than Employer Identification Numbers and Social Security Numbers may be made to Federal and State law enforcement or investigative agencies or instrumentalities administering or enforcing specified Federal or State laws, or regulations issued under those law. Without the information on the application, the consequence to the Federal program is the Agency's reduced ability to effectively monitor accountability for program compliance and to detect fraud and abuse.

Description of Respondents: Business or other for-profit; Not-for-profit institutions; Farms; Federal Government.

Number of Respondents: 41,486.

Frequency of Responses: Reporting: On occasion.

Total Burden Hours: 5,936.

Ruth Brown,
Departmental Information Collection Clearance Officer.

[FR Doc. E8-12077 Filed 5-29-08; 8:45 am]

BILLING CODE 3410-30-P